DEPARTMENT OF COMMERCE

International Trade Administration

[A-570-849]

Suspension Agreement on Certain Cut-to-Length Carbon Steel Plate From the People's Republic of China; Termination of Suspension Agreement and Notice of Antidumping Duty Order

AGENCY: Import Administration, International Trade Administration, Department of Commerce.

ACTION: Termination of the suspension agreement on certain cut-to-length carbon steel plate from the People's Republic of China (“China”) and notice of antidumping duty order.

SUMMARY: On August 29, 2003, the Embassy of the People's Republic of China (“the Embassy”) submitted a letter informally to the Department of Commerce (“the Department”) announcing its intention to withdraw from the suspension agreement on Certain Cut-to-Length Carbon Steel Plate from the People's Republic of China (“the Agreement”). On September 4, 2003, the letter was put on the public and official record in the Central Records Unit (“CRU”) of the Department and interested parties were notified (see Memo to the File: Interested Parties Notified of the Withdrawal by the Government of the People's Republic of China (“GOC”) from the Suspension Agreement (“the Agreement”) on Certain Carbon Cut-to-length Plate (“CTL plate”) from China, (December 10, 2003)). In accordance with Section XII of the Agreement, termination of the Agreement shall be effective 60 days after notice of termination of the Agreement is given to the Department. In 1997, the underlying investigation was continued following the signature of the Agreement, pursuant to section 734(g) of the Tariff Act of 1930, as amended (“the Act”), resulting in an affirmative determination of dumping and of material injury. Therefore, the Department is terminating the Agreement and issuing an antidumping duty order, effective November 3, 2003 (60 days from the official filing of the request for termination), and will direct suspension of liquidation to also begin on that date.

EFFECTIVE DATE: November 3, 2003.

FOR FURTHER INFORMATION CONTACT: Jean Kemp or Rachel Kreissl, Import Administration, International Trade Administration, U.S. Department of Commerce, 14th Street and Constitution Avenue, NW., Washington, DC 20230; telephone: (202) 482-4037 or (202) 482-0409, respectively.

SUPPLEMENTARY INFORMATION:

Background

On October 24, 1997, the Department signed an agreement with the Government of the People's Republic of China (“GOC”) suspending the antidumping investigation on CTL plate from China (see Suspension of Antidumping Duty Investigation: Certain Cut-to-Length Carbon Steel Plate From the People's Republic of China, 62 FR 61773 (November 19, 1997)). In accordance with section 734(g) of the Act, on November 20, 1997, the Department published its final determination of sales at less than fair value in this case (see Final Determination of Sales at Less Than Fair Value: Certain Cut-to-Length Carbon Steel Plate From the People's Republic of China, 62 FR 61964 (November 20, 1997)), followed by an amended final on January 12, 1998 (see Amended Final Determination of Sales at Less Than Fair Value: Certain Cut-to-Length Carbon Steel Plate From the People's Republic of China, 63 FR 1821 (January 12, 1998)). On December 17, 1997, the International Trade Commission (“ITC”) determined that an industry in the United States was materially injured by reason of imports of CTL plate from China that were being sold at less than fair value (see Certain Carbon Steel Plate from China, Russia, South Africa, and Ukraine, 62 FR 66128, Investigation No. 731-TA-753-756 (Final) Publication 3076; December 17, 1997)).

Although notice of the opportunity to request an administrative review was issued in November 1998, November 1999, October 2000, October 2001, and October 2002, no review was ever requested by either petitioners or respondents (see Antidumping or Countervailing Duty Order, Finding, or Suspended Investigation: Opportunity To Request Administrative Review, 63 FR 63287 (November 12, 1998)); Antidumping or Countervailing Duty Order, Finding, or Suspended Investigation: Opportunity To Request Administrative Review, 64 FR 62167 (November 16, 1999)); Antidumping or Countervailing Duty Order, Finding, or Suspended Investigation: Opportunity To Request Administrative Review, 65 FR 63057 (October 20, 2000); Antidumping or Countervailing Duty Order, Finding, or Suspended Investigation: Opportunity To Request Administrative Review, 66 FR 49923 (October 1, 2001); and Antidumping or Countervailing Duty Order, Finding, or Suspended Investigation: Opportunity To Request Administrative Review, 67 FR 61849 (October 2, 2002)).

On September 3, 2002, the Department initiated (see Notice of Initiation of Five-Year (“Sunset”) Reviews, 67 FR 56268 (September 3, 2002)) and the ITC instituted (see Institution of Five-year Reviews Concerning the Suspended Investigations on Cut-to-length (CTL) Carbon Steel Plate from China, Russia, South Africa, and Ukraine, 67 FR 56311 (September 3, 2002)) a sunset review of the agreement, pursuant to section 751(c) of the Act. On December 9, 2002, the ITC determined to conduct full five-year reviews pursuant to section 751(c)(5) of the Act (see Notice of Commission Determinations to Conduct Full Five-year Reviews Concerning the Antidumping Duty Orders on Cut-to-length Carbon Steel Plate from China, Russia, South Africa, and Ukraine, 67 FR 77803 (December 19, 2002)). As a result of its review, on January 8, 2003, the Department determined that termination of the suspended investigation underlying the agreement would be likely to lead to continuation or recurrence of dumping and notified the ITC of the magnitude of the margin likely to prevail were the suspended investigation underlying the agreement terminated (see Cut-to-Length Carbon Steel Plate From the People's Republic of China, the Russian Federation, and South Africa; Final Results of Expedited Sunset Review of Suspended Antidumping Duty Investigations, 68 FR 1038 (January 8, 2003)).

On August 18, 2003, the ITC determined that termination of the suspended investigation on CTL plate from China would be likely to lead to continuation or recurrence of material injury to an industry in the United States within a reasonably foreseeable time (see Cut-to-Length Carbon Steel Plate From China, Russia, South Africa, and Ukraine, 68 FR 52614; ITC Publication No. 3626 (September 4, 2003)). Pursuant to the ITC's affirmative determination in the five-year sunset review, the Department issued a notice of continuation on September 12, 2003, for the suspended investigation underlying the Agreement on CTL plate from China (see Continuation of Suspended Antidumping Duty Investigations: Cut-to-length Carbon Steel Plate from the People's Republic of China, the Russian Federation, and Ukraine).

On August 29, 2003, referencing Article XII of the Agreement, the Embassy of China in Washington, DC, submitted a facsimile request informing the Department that “the Chinese side has decided to withdraw from the Suspension Agreement on Cut-to-length Carbon Steel Plate, which will expire on October 30, 2003” (see Memo to the File: Interested Parties Notified of the Withdrawal by the Government of the People's Republic of China (“GOC”) from the Suspension Agreement (“the Agreement”) on Certain Carbon Cut-to-length Plate (“CTL plate”) from China, (December 10, 2003)). On September 4, 2003, the letter was put on the public and official record in the Central Records Unit (“CRU”) of the Department and interested parties were notified (see Memo to the File: Interested Parties Notified of the Withdrawal by the Government of the People's Republic of China (“GOC”) from the Suspension Agreement (“the Agreement”) on Certain Carbon Cut-to-length Plate (“CTL plate”) from China, (December 10, 2003)).

Scope of Agreement

The merchandise covered by this agreement is Certain Cut-to-length Carbon Steel Plate from the People's Republic of China. Included in this description is hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in this Agreement are flat-rolled products of nonrectangular cross-section where such cross-section is achieved subsequent to the rolling process (i.e., products which have been “worked after rolling”)—for example, products which have been bevelled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, 7212.50.0000. Although the HTS subheadings are provided for convenience and customs purposes, the written description of the scope of this Agreement is dispositive. Specifically excluded from subject merchandise within the scope of this Agreement is grade X-70 steel plate.

Termination of Suspended Investigation and Issuance of Antidumping Duty Order

Article XII of the Agreement states, in part:

“The Government of the People's Republic of China may terminate this Agreement at any time upon notice to the Department. Termination shall be effective 60 days after such notice is given to the Department. Upon termination at the request of MOFTEC, the provisions of Section 734(i) of the Act shall apply.”

As noted above, the underlying investigation in this proceeding was continued pursuant to section 734(g) of the Act following the acceptance of the Agreement. As a result of the continued investigation, the Department made a final determination of dumping, and the ITC found material injury. Section 734(i)(1)(A) of the Act stipulates that the Department shall:

Suspend liquidation under section 733(d)(2) of unliquidated entries of the merchandise made on the later of—

(i) the date which is 90 days before the date of publication of the notice of suspension of liquidation, or

(ii) the date on which the merchandise the sale or export to the United States of which was in violation of the agreement, or under an agreement which no longer meets the requirements of subsection (b) and (d) or (c) and (d), was first entered, or withdrawn from warehouse, for consumption. . . .

Furthermore, section 734(i)(1)(C) stipulates that the Department shall:

If the investigation was completed under subsection (g), issue an antidumping duty order under section 736(a) effective with respect to entries of merchandise liquidation of which was suspended.

Finally, section 734(i)(1)(E) stipulates that the Department shall:

Notify the petitioner, interested parties who are or were parties to the investigation, and the Commission of its actions under this paragraph.

The GOC's request for termination of the suspension agreement is effective November 3, 2003, which is the date the agreement will no longer meet the requirements of section 734(d) of the Act. Because the GOC is withdrawing its participation from the Agreement, the Department finds that suspension of the underlying investigation will no longer be in the public interest as of that date (see section 734(d)(1)). Therefore, the Department will direct the U.S. Bureau of Customs and Border Protection (“BCBP”) to suspend liquidation of all entries of CTL plate from China effective November 3, 2003. Accordingly, pursuant to section 734(i)(1)(C) of the Act, the Department hereby issues an antidumping duty order effective November 3, 2003, which is 60 days from the official filing date of the termination request of the GOC.

Antidumping Duty Order

In accordance with section 736(a)(1) of the Act, the Department will direct BCBP to assess, beginning on November 3, 2003, antidumping duties equal to the amount by which the normal value of the merchandise exceeds the export price (or constructed export price) of the merchandise for all entries of CTL plate from China. These antidumping duties will be assessed on all unliquidated entries of CTL plate from China entered, or withdrawn from warehouse, for consumption on or after November 3, 2003.

We will instruct BCBP to require a cash deposit for each entry equal to the antidumping duty margins found in our amended final determination of January 12, 1998, as listed below. These suspension-of-liquidation instructions will remain in effect until further notice. The “China-Wide Rate” applies to all producers and exporters of subject CTL plate not specifically listed. The final weighted-average dumping margins are as follows:

Manufacturer/Exporter | Weighted-average margin (percent)
Anshan (AISCO/Anshan International/Sincerely Asia Ltd) | 30.68
Baoshan (Bao/Baoshan International Trade Corp/Bao Steel Metals Trading Corp) | 30.51
Liaoning | 17.33
Shanghai Pudong | 38.16
WISCO (Wuhan/International Economic and Trading Corp/Cheerwu Trader Ltd) | 128.59
China-wide Rate | 128.59

This notice constitutes the antidumping duty order with respect to CTL plate from China. Interested parties may contact the Department's Central Records Unit, room B-099 of the main Commerce building, for copies of an updated list of antidumping duty orders currently in effect.

This notice is published in accordance with sections 734(i) and 777(i) of the Act. This order is published in accordance with section 736(a) of the Act.

Dated: October 14, 2003.
James J. Jochum,
Assistant Secretary for Import Administration.

[FR Doc. 03-26530 Filed 10-20-03; 8:45 am]

BILLING CODE 3510-DS-P